DEPARTMENT OF TRANSPORTATION

Federal Aviation Administration

14 CFR Parts 121 and 135

[Docket No. FAA-2005-22593]

Mode S Transponder Requirements in the National Airspace System

AGENCY: Federal Aviation Administration (FAA), DOT.

ACTION: Notice of policy; request for comments.

SUMMARY: This notice of policy announces the FAA's policy concerning current exemptions from the Mode S transponder equipment requirements under Title 14 of the Code of Federal Regulations §§ 121.345(c) and 135.143(c). Additionally, this notice of policy seeks comments from persons currently holding an exemption from the above regulations on a proposed date for which they must comply with the equipment requirements.

DATES: Comments must be filed no later than November 7, 2005.

ADDRESSES: You may send comments to Docket Number 22593 using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

Privacy: We will post all comments we receive, without change, to http://dms.dot.gov, including any personal information you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Ida Klepper, Office of Rulemaking, Federal Aviation Administration, 800 Independence Avenue, SW., Washington, DC 20591, (202) 267-9677, email: Ida.Klepper@faa.gov.

SUPPLEMENTARY INFORMATION:

Background

Concurrent with the publication of this notice and in a separate part of this Federal Register publication, the FAA announces that it is withdrawing Notice No. 96-5, a Notice of Proposed Rulemaking to rescind the Mode S transponder requirements for aircraft operating under Title 14 of the Code of Federal Regulation (CFR) part 135 and aircraft operating under Part 121 that are not required to have Traffic Alert and Collision Avoidance Systems (TCAS) II.

Since Notice 96-5 was published in May 1996, the FAA has granted a number of exemptions to the above referenced sections as the agency progressed toward removing this equipment requirement from all aircraft except those aircraft operated under Part 121 that have TCAS II. As the agency has revised its long-term plan for Mode S and is retaining this equipment requirement, we want to provide a reasonable timeframe for the exemptions to terminate and for affected operators to comply with the applicable regulations.

Proposed Termination Date of Exemptions

We propose that all FAA authorized exemptions of 14 CFR 121.345(c) and 135.143(c) terminate no later than March 1, 2007. Until that date, the FAA will review on a case-by-case basis requests to extend current exemptions to that date. The FAA, however, would not be granting any new exemptions after March 1, 2007. This proposed date would provide affected operators with approximately 18 months to install a Mode S transponder if necessary under §§ 121.345(c) and 135.143(c).

Under paragraphs (c) of §§ 121.345 and 135.143, after January 1, 1992, only Mode S transponders may be newly installed in U.S. registered civil aircraft. Under these regulations, the term “installation” does not include: (1) Temporary installation of a Mode C transponder or substitute equipment as appropriate, during maintenance of the permanent equipment; (2) reinstallation of equipment after temporary removal for maintenance; or (3) for fleet operations, installation of equipment in a fleet aircraft after removal of the equipment for maintenance from another aircraft in the same operator's fleet.

Consequently, the FAA proposes that effective March 1, 2007, if a transponder needs to be permanently replaced it must be replaced with a Mode S transponder. This does not mean that effective March 1, 2007, operators are required to install Mode S transponders, if they have an operable and appropriate Mode C or Mode A transponder in the aircraft. The current regulation only requires the replacement of a Mode A or C transponder with Mode S when the existing transponder can no longer be repaired. In addition, the FAA notes that if you were (or are) issued an exemption before March 1, 2007, allowing you to install a Mode C transponder on your aircraft, you may use that transponder until it no longer can be repaired and must be replaced with a Mode S. Therefore, if you hold an exemption, any Mode A or C transponder that is installed on or before March 1, 2007, may remain in your aircraft and may continue to be repaired after March 1, 2007. When that Mode A or C transponder can no longer be repaired, it must be replaced with a Mode S transponder. After March 1, 2007, you will not receive an exemption to allow the installation of a Mode A or C transponder to replace a Mode A or C transponder that cannot be repaired.

The FAA invites all affected operators to comment on the proposed date of March 1, 2007, as the latest termination date for authorized exemptions from §§ 121.345(c) and 135.143(c). After that date, any transponder newly installed in U.S. registered aircraft must be Mode S.

Issued in Washington, DC on September 27, 2005.
Anthony Fazio,
Director of Rulemaking.

[FR Doc. 05-20183 Filed 10-6-05; 8:45 am]

BILLING CODE 4910-13-P